DEPARTMENT OF TRANSPORTATION

Federal Highway Administration

Notice of Final Federal Agency Actions on Proposed Rail Grade Separation Project in Orange County, CA

AGENCY: Federal Highway Administration (FHWA), DOT.

ACTION: Notice of Limitation on Claims for Judicial Review of Actions by FHWA, pursuant to 23 U.S.C. 327.

SUMMARY: The FHWA is issuing this notice to announce actions taken by FHWA and other Federal agencies that are final within the meaning of 23 U.S.C. Section 139(l)(1). The actions relate to the proposed Orange County Gateway rail grade separation project in the Cities of Placentia (local project proponent) and Anaheim, Orange County, California.

DATES: By this notice, the FHWA is advising the public of final agency actions subject to 23 U.S.C. Section 139(l)(1). A claim seeking judicial review of the Federal agency actions on the rail crossing will be barred unless the claim is filed on or before March 29, 2010. If the Federal law that authorizes judicial review of a claim provides a time period of less than 180 days for filing such claim, then that shorter time period still applies.

FOR FURTHER INFORMATION CONTACT: For FHWA: Scott K. McHenry, Senior Transportation Engineer, 650 Capital Mall, Suite 4-100, Sacramento, California 95814; phone: (916) 498-5854; fax (916) 498-5008; e-mail Scott.mchenry@dot.gov; regular office hours 8 a.m. to 5 p.m. For the City of Placentia, Michael McConaha, Senior Administrative Analyst, City of Placentia, 401 East Chapman Avenue, Placentia, California 92870; phone: (714) 993-8245; fax: (714) 961-0283; e-mail mmcconaha@placentia.org; regular office hours 8 a.m. to 5 p.m.

SUPPLEMENTARY INFORMATION: Notice is hereby given that the Federal Highway Administration (FHWA) has taken final agency actions subject to 23 U.S.C. 139(l)(1) by issuing licenses, permits, and approvals for the following rail grade separation project in the State of California. The purpose of the Orange County Gateway (OCG) project is to alleviate current and potential environmental impacts and hazards associated with traffic congestion at existing at-grade crossings along an approximately 5-mile long segment of the Burlington Northern Santa Fe (BNSF) railroad tracks in the Cities of Placentia and Anaheim and unincorporated Orange County, in Orange County, California. The OCG project will provide grade separations on eight local arterials at their crossings with the BNSF tracks. The OCG project is subject to federal, as well as City of Placentia and State, environmental review requirements because the City proposes the use of federal funds from FHWA. Project documentation, therefore, was prepared in compliance with both the National Environmental Policy Act (NEPA) and the California Environmental Quality Act (CEQA). The FHWA project reference number is FHWA-EIS-CA21. The actions by the Federal agencies, and the laws under which such actions were taken, are described in the Final Environmental Impact Statement (FEIS) for the project, approved on June 30, 2009 in the FHWA Record of Decision (ROD) issued on September 23, 2009, and in other documents in the FHWA project records. The FEIS, ROD, and other project records are available by contacting FHWA or the City of Placentia at the addresses provided above. Pending federal actions for the project are:

• United States Army Corps of Engineers 404 permit under the Federal Clean Water Act (CWA).

• 401 Water Quality Certification from the Regional Water Quality Control Board under Section 401 permit of the Federal CWA.

This notice applies to all Federal agency decisions as of the issuance date of this notice and all laws under which such actions were taken, including but not limited to:

1. Council on Environmental Quality regulations.

2. National Environmental Policy Act (NEPA).

3. Department of Transportation Act of 1966.

4. Federal Aid Highway Act of 1970.

5. Clean Air Act Amendments of 1990.

6. Clean Water Acts of 1977 and 1987.

7. Endangered Species Act of 1973.

8. Migratory Bird Treaty Act.

9. Farmland Protection Policy Act of 1981.

10. Title VI of the Civil Rights Act of 1964.

11. Uniform Relocation Assistance and Real Property Acquisition Act of 1970.

12. National Historic Preservation Act of 1966.

13. Historic Sites Act of 1935.

14. Executive Order 11990, Protection of Wetlands.

15. Executive Order 13112, Invasive Species.

16. Executive Order 11988, Floodplain Management.

17. Executive Order 12898, Environmental Justice.

Authority: 23 U.S.C. Section 139(l)(1).

Issued on: September 24, 2009.
Walter C. Waidelich, Jr.,
Division Administrator, Federal Highway Administration, Sacramento, California.

[FR Doc. E9-23566 Filed 9-29-09; 8:45 am]

BILLING CODE 4910-RY-P